ENVIRONMENTAL PROTECTION AGENCY

40 CFR Part 52

[EPA-R09-OAR-2013-0683; FRL-9902-01-Region9]

Approval of Air Quality Implementation Plans; California; El Dorado County Air Quality Management District; Reasonably Available Control Technology for Ozone

AGENCY: Environmental Protection Agency (EPA).

ACTION: Proposed rule.

SUMMARY: EPA is proposing to approve a State Implementation Plan (SIP) revision submitted by California for the El Dorado County Air Quality Management District (EDAQMD) portion of the California SIP. The submitted SIP revision contains the District's demonstrations regarding Reasonably Available Control Technology (RACT) requirements for the 1997 8-hour ozone National Ambient Air Quality Standards (NAAQS). We are proposing to approve the submitted SIP revision under the Clean Air Act as amended in 1990 (CAA or the Act). We are taking comments on this proposal and plan to follow with a final action.

DATES: Any comments must arrive by November 25, 2013.

ADDRESSES: Submit comments, identified by docket number EPA-R09-OAR-2013-0683, by one of the following methods:

1. Federal eRulemaking Portal: www.regulations.gov. Follow the on-line instructions.

2. Email: steckel.andrew@epa.gov.

3. Mail or deliver: Andrew Steckel (Air-4), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or email. www.regulations.gov is an “anonymous access” system, and EPA will not know your identity or contact information unless you provide it in the body of your comment. If you send email directly to EPA, your email address will be automatically captured and included as part of the public comment. If EPA cannot read your comment due to technical difficulties and cannot contact you for clarification, EPA may not be able to consider your comment.

Docket: Generally, documents in the docket for this action are available electronically at www.regulations.gov and in hard copy at EPA Region IX, 75 Hawthorne Street, San Francisco, California. While all documents in the docket are listed at www.regulations.gov, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Stanley Tong, EPA Region IX, (415) 947-4122, tong.stanley@epa.gov.

SUPPLEMENTARY INFORMATION: Throughout this document, “we,” “us” and “our” refer to EPA.

Table of Contents

I. The State's Submittal

A. What document did the State submit?

B. Are there other versions of this document?

C. What is the purpose of the RACT SIP submission?

II. EPA's Evaluation and Proposed Action

A. How is EPA evaluating the RACT SIP submission?

B. Does the RACT SIP submission meet the evaluation criteria?

C. EPA Recommendations To Strengthen the SIP

D. Proposed Action and Request for Public Comment

III. Statutory and Executive Order Reviews

I. The State's Submittal

A. What document did the State submit?

Table 1 lists the document addressed by this proposal with the date that it was adopted by the local air agency and submitted by the California Air Resources Board.

Table 1—Submitted Document
Local agency | Document | Adopted | Submitted
EDAQMD | EDAQMD Reasonably Available Control Technology (RACT) State Implementation Plan (SIP) Update Analysis Staff Report (“2006 RACT SIP”) | 02/06/07 | 07/11/07

EDAQMD's RACT SIP submittal became complete by operation of law under CAA section 110(k)(1)(B) on January 11, 2008.

B. Are there other versions of this document?

There is no previous version of this document in the El Dorado portion of the California SIP.

C. What is the purpose of the RACT SIP submission?

Volatile organic compounds (VOCs) and nitrogen oxides (NOX) help produce ground-level ozone and smog, which harm human health and the environment. Section 110(a) of the CAA requires States to submit enforceable regulations that control VOC and NOX emissions. Sections 182(b)(2) and (f) require that SIPs for ozone nonattainment areas classified as moderate or above require implementation of RACT for any source covered by a Control Techniques Guideline (CTG) document and any other major stationary source of VOCs or NOX. The EDAQMD is subject to this requirement as it is designated and classified as a severe ozone nonattainment area for the 1997 8-hour ozone NAAQS. 40 CFR 81.305; 69 FR 23858 at 23887 (April 30, 2004) (final rule designating and classifying the Sacramento Metro area, which includes the El Dorado County AQMD, as serious nonattainment for the 1997 8-hour ozone NAAQs); 75 FR 24409 (May 5, 2010) (final rule reclassifying Sacramento Metro area as severe-15 nonattainment for the 1997 8-hour ozone NAAQS). Therefore, the EDAQMD must, at a minimum, adopt RACT-level controls for all sources covered by a CTG document and for all major non-CTG sources of VOCs or NOX within the EDAQMD nonattainment area. Any stationary source that emits or has a potential to emit at least 25 tons per year (tpy) of VOCs or NOX is a major stationary source in a severe ozone nonattainment area. CAA 182(d), (f).

Section IV.G. of EPA's final rule to implement the 1997 8-hour ozone NAAQS (70 FR 71612, November 29, 2005) discusses RACT requirements. It states in part that where a RACT SIP is required, States implementing the 8-hour standard generally must assure that RACT is met either through a certification that previously required RACT controls represent RACT for 8-hour implementation purposes or through a new RACT determination. The submitted document provides EDAQMD's analyses of its compliance with the CAA section 182 RACT requirements for the 1997 8-hour ozone NAAQS. EPA's technical support document (TSD)(“2006 RACT SIP TSD”) has more information about the District's submission and EPA's evaluation thereof.

II. EPA's Evaluation and Proposed Action

A. How is EPA evaluating the RACT SIP submission?

Rules and guidance documents that we use to evaluate CAA section 182 RACT SIPs include the following:

1. “Final Rule to Implement the 8-Hour Ozone National Ambient Air Quality Standard—Phase 2” (70 FR 71612; November 29, 2005).

2. “State Implementation Plans, General Preamble for the Implementation of Title I of the Clean Air Act Amendments of 1990” (57 FR 13498; April 16, 1992).

3. Issues Relating to VOC Regulation Cutpoints, Deficiencies, and Deviations: Clarification to Appendix D of November 24, 1987 Federal Register, May 25, 1988, U.S. EPA, Air Quality Management Division, Office of Air Quality Planning and Standards (“The Blue Book”).

4. Guidance Document for Correcting Common VOC and Other Rule Deficiencies, August 21, 2001, U.S. EPA Region IX (the “Little Bluebook”).

5. “State Implementation Plans; Nitrogen Oxides Supplement to the General Preamble for the Implementation of Title I of the Clean Air Act Amendments of 1990” (57 FR 55620, November 25, 1992) (“the NOX Supplement”).

6. RACT SIPs, Letter dated March 9, 2006 from EPA Region IX (Andrew Steckel) to CARB (Kurt Karperos) describing Region IX's understanding of what constitutes a minimally acceptable RACT SIP.

7. Memorandum from William T. Harnett to Regional Air Division Directors, (May 18, 2006), “RACT Qs & As—Reasonably Available Control Technology (RACT) Questions and Answers”.

8. RACT SIPs, Letter dated April 4, 2006 from EPA Region IX (Andrew Steckel) to CARB (Kurt Karperos) listing EPA's current CTGs, ACTs, and other documents which may help to establish RACT.

With respect to major stationary sources, EPA evaluated the 2006 RACT SIP submission in accordance with the major source threshold (25 tons per year) that applies in severe ozone nonattainment areas. CAA 182(d), (f).

B. Does the RACT SIP submission meet the evaluation criteria?

The 2006 RACT SIP provides the District's conclusion that the applicable SIP for the El Dorado County AQMD satisfies CAA section 182 RACT requirements for the 1997 8-hour ozone NAAQS. This conclusion is based on the District's analysis of SIP-approved requirements that apply to: (1) CTG source categories; and (2) major stationary sources of NOX or VOC emissions. See 2006 RACT SIP Staff Report at Table B and Appendix A.

First, with respect to CTG source categories, Appendix A of the 2006 RACT SIP Staff Report lists all CTG source categories and matches those CTG categories with corresponding District rules which implement RACT. EDAQMD also searched its database of permitted sources and Standard Industrial Classification (SIC) codes and other source data and emission inventory data for potential sources belonging to those CTG categories for which the District did not have rules. Based on these evaluations, the District's analysis indicated that except for the metal parts and products category, there were no CTG source categories for which the District had sources but no applicable RACT requirement. See 2006 RACT SIP at 7. Recent discussions with EDAQMD revealed that emissions at its metal parts coating facilities are below the applicability threshold for the CTG. Specifically, one facility emitted 0.24 tons and 0.28 tons of VOCs in 2010 and 2011 and another facility emitted 0.7 tons of VOCs in 2011,¹ well below the CTG's applicability threshold of 10 tons per year. EDAQMD should submit a negative declaration for the metal parts CTG.

¹ See email dated February 29, 2012 from Stanley Tong (EPA Region 9) to Adam Baughman (El Dorado AQMD).

We reviewed CARB's emissions inventory database for other potential CTG and/or major non-CTG sources not included in EDAQMD's analysis and did not identify any additional CTG source category or major source in the District that is subject to section 182 RACT.

It should be noted that EDAQMD does not have many significant air pollution sources and has submitted a number of negative declarations. Not including gasoline stations, print shops, autobody shops and dry cleaners, CARB's 2007 emissions inventory for EDAQMD only lists six facilities. Included in the six is EDAQMD's only major source, Sierra Pacific sawmill, which shut operations in 2009 and has not restarted.² The next largest source in EDAQMD is a landfill which emitted 4.2 tpy VOCs and 2.1 tpy NOX in 2010, according to CARB's 2010 emissions inventory.

² Sierra Pacific Industries does not appear in CARB's 2010 emissions inventory. http://www.arb.ca.gov/app/emsinv/facinfo/facinfo.php

Where there are no existing sources covered by a particular CTG document, states may, in lieu of adopting RACT requirements for those sources, adopt negative declarations certifying that there are no such sources in the relevant nonattainment area. Table 1 below lists all of the source categories for which EDAQMD's 2006 RACT SIP provides negative declarations.

Table 1—EDAQMD Negative Declarations
CTG source category | CTG document title
Aerospace | EPA-453/R-97-004—Control of VOC Emissions from Coating Operations at Aerospace Manufacturing and Rework.
Automobile Coating; Metal Coil Container, & Closure; Paper & Fabric | EPA-450/2-77-008—Control of Volatile Organic Emissions from Existing Stationary Sources—Volume II Surface Coating of Cans, Coils, Paper, Fabrics, Automobiles, and Light-Duty Trucks.
Large Appliances | EPA-450/2-77-034—Control of Volatile Organic Emissions from Existing Stationary Sources, Volume V: Surface Coating of Large Appliances.
Magnet Wire | EPA 450/2-77-033—Control of Volatile Organic Emissions from Existing Stationary Sources, Volume IV: Surface Coating of Insulation of Magnet Wire.
Metal Furniture | EPA-450/2-77-032—Control of Volatile Organic Emissions from Existing Stationary Sources, Volume III: Surface Coating of Metal Furniture.
Ships | 61 FR 44050 Shipbuilding and Ship Repair Operations (Surface Coating).
Wood Coating: Factory Surface Coating of Flat Wood Paneling | EPA 450/2-78-032—Control of Volatile Organic emissions from Existing Stationary Sources, Volume VII: Factory Surface Coating of Flat Wood Paneling.
Wood Furniture | EPA 453/R-96-007—Control of VOC Emissions from Wood Furniture Manufacturing Operations.
Natural Gas/Gasoline | EPA-450/2-83-007—Control of VOC Equipment Leaks from Natural Gas/Gasoline Processing Plants.
Refineries | EPA-450/2-77-025—Control of Refinery Vacuum Producing Systems, Wastewater Separators, and Process Unit Turnarounds.
| EPA-450/2-78-036—Control of VOC Leaks from Petroleum Refinery Equipment.
Synthetic Organic Chemical | EPA-450/3-84-015—Control of VOC Emissions from Air Oxidation Processes in Synthetic Organic Chemical Manufacturing Industry.
| EPA-450/4-91-031—Control of VOC Emissions from Reactor Processes and Distillation Operations in SOCMI.
Tanks | EPA-450/2-77-036—Control of VOC Emissions from Storage of Petroleum Liquids in Fixed Roof Tanks.
| EPA-450/2-78-047—Control of VOC Emissions from Petroleum Liquid Storage in External Floating Roof Tanks.
Dry Cleaning | EPA-450/3-82-009—Control of VOC Emissions from Large Petroleum Dry Cleaners.
Pharmaceutical Products | EPA-450/2-78-029—Control of Volatile Organic Emissions from Manufacture of Synthesized Pharmaceutical Products.
Polyester Resin | EPA-450/3-83-008—Control of VOC Emissions from Manufacture of High-Density Polyethylene, Polypropylene, and Polystyrene Resins.
| EPA-450/3-83-006—Control of VOC Fugitive Emissions from Synthetic Organic Chemical Polymer and Resin Manufacturing Equipment.
Rubber Tires | EPA-450/2-78-030—Control of Volatile Organic Emissions from Manufacture of Pneumatic Rubber Tires.
Source: 2006 RACT SIP at 9.

We are proposing to find that the EDAQMD 2006 RACT SIP submission, including all of these negative declarations, adequately demonstrates that the applicable SIP rules for all CTG source categories operating within the El Dorado AQMD satisfy RACT and that there are no existing major stationary sources of NOx or VOC in El Dorado County subject to RACT for the 1997 8-hour ozone NAAQS.

C. EPA Recommendations to Strengthen the SIP

We recommend strengthening the solvent cleaning limits in Rule 225, “Solvent Cleaning Operations (Degreasing)” and coating limits in Rule 215, “Architectural Coatings,” to more closely match corresponding requirements adopted by the Sacramento Metro AQMD and Placer County Air Pollution Control District.³ These recommendations will strengthen the SIP, but are not required to satisfy RACT. We discuss these recommendations further in our 2006 RACT SIP TSD.

³ See Sacramento Metro AQMD Rule 466, Solvent Cleaning, section 301.1 which specifies a 25 grams/liter VOC limit for general solvent cleaning; 40 CFR Part 59, subpart D, National Volatile Organic Compound Emission Standards for Architectural Coatings; and CARB's suggested control measures for architectural coatings at: http://www.arb.ca.gov/coatings/arch/Approved_2007_SCM.pdf.

D. Proposed Action and Request for Public Comment

Based on the evaluations discussed above and more fully in our 2006 RACT SIP TSD, we are proposing to conclude that EDAQMD's 2006 RACT SIP submission satisfies CAA section 182 RACT requirements for the 1997 8-hour ozone NAAQS and to fully approve this submission into the California SIP pursuant to section 110(k)(3) of the Act. We will accept comments from the public on this proposal for the next 30 days. Unless we receive convincing new information during the comment period, we intend to publish a final approval action that will incorporate this RACT submission into the federally enforceable SIP.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. This action merely proposes to approve State law as meeting Federal requirements and does not impose additional requirements beyond those imposed by State law. For that reason, this proposed action:

• Is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, with practical and legally permissible methods, under Executive Order 12898 (59 FR 7629, February 16, 1994).

In addition, this proposed action does not have tribal implications as specified by Executive Order 13175 (65 FR 67249, November 9, 2000), because the SIP is not approved to apply in Indian country located in the State, and EPA notes that it will not impose substantial direct costs on tribal governments or preempt tribal law.

List of Subjects in 40 CFR Part 52

Environmental protection, Air pollution control, Incorporation by reference, Intergovernmental relations, Nitrogen dioxide, Ozone, Reporting and recordkeeping requirements, Volatile organic compounds.

Authority: 42 U.S.C. 7401 et seq.

Dated: September 25, 2013.
Jared Blumenfeld,
Regional Administrator, Region IX.

[FR Doc. 2013-25260 Filed 10-24-13; 8:45 am]

BILLING CODE 6560-50-P